ENVIRONMENTAL PROTECTION AGENCY

[FRL-6861-5]

Good Neighbor Environmental Board Meeting

AGENCY: Environmental Protection Agency (EPA).

ACTION: Notice of meeting.

SUMMARY: The Good Neighbor Environmental Board (GNEB) will meet on the afternoon of Tuesday, September 19th, and for the full day on Wednesday, September 20, in El Paso, Texas, in its role as advisor to the President and Congress on creating and maintaining an environmentally sustainable U.S.-Mexico border region. In addition, on the following day, September 21st, Good Neighbor Board members will take part in the currently scheduled plenary session of the U.S.-Mexico Border XXI Program National Coordinator's meeting, where they will report out on their activities and also facilitate a public comment session. The meetings of both groups are open to the public.

Location: The Good Neighbor Environmental Board meeting will take place at the Camino Real Hotel in El Paso, Texas. It is located at 101 South El Paso Street, El Paso, Texas, 79901. The hotel phone number is (915) 534-3000. The Camino Real is adjacent to the Convention Center and Performing Arts Theater. It has underground fee parking, and there is a bus stop about 3 blocks from the hotel.

Agenda: During the first afternoon, Tuesday the 19th, the draft agenda calls for discussing ongoing Board business including dissemination of the Fourth Report to the President and Congress, a briefing on border region watersheds, a roundtable with Border XXI to give input from the Board on its proposed next phase, and break-out sessions for the Board's four workgroups. The draft agenda for Wednesday includes more ongoing Board business such as report-outs on border activities, early planning for the Fifth Report, and a roundtable session with Consejo Region 1 of Mexico and representatives from non-governmental groups.

Public Attendance: The public is welcome to attend all portions of the meeting. Seating on both days is available on a first-come, first-served basis. Members of the public who plan to file written statements and/or make brief oral statements at the public comment session of the National Coordinator's meeting on September 21st, which Good Neighbor is scheduled to facilitate, should contact the Designated Federal Officer of the Good Neighbor Environmental Board by Thursday, September 7th.

Background: The Good Neighbor Environmental Board was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The Board meets three times annually. The U.S. Environmental Protection Agency gives notice of this meeting of the Good Neighbor Environmental Board pursuant to the Federal Advisory Committee Act (Public Law 92-463).

FOR FURTHER INFORMATION CONTACT: Elaine M. Koerner, Designated Federal Officer for the Good Neighbor Environmental Board: Office of Cooperative Environmental Management, Office of the Administrator, USEPA, MC1601A, 1200 Pennsylvania Ave. NW, Washington, DC 20004, (202) 564-1484, koerner.elaine@epa.gov., or access the GNEB web-site at www.epa.gov/ocem/gneb.htm.

Dated: August 22, 2000.
Elaine Koerner,
Designated Federal Officer.

[FR Doc. 00-22372 Filed 8-30-00; 8:45 am]

BILLING CODE 6560-50-P